DEPARTMENT OF COMMERCE

National Oceanic and Atmospheric Administration

RIN 0648-XU41

Marine Mammals; File No. 13545

AGENCY: National Marine Fisheries Service (NMFS), National Oceanic and Atmospheric Administration (NOAA), Commerce.

ACTION: Notice; issuance of permit.

SUMMARY: Notice is hereby given that Ocean Alliance, Inc. (Responsible Party: Iain Kerr), 191 Weston Road, Lincoln, MA 01773, has been issued a permit to conduct research on and import specimens of marine mammals.

ADDRESSES: The permit and related documents are available for review upon written request or by appointment (See SUPPLEMENTARY INFORMATION).

FOR FURTHER INFORMATION CONTACT: Amy Hapeman or Amy Sloan, (301)713-2289.

SUPPLEMENTARY INFORMATION: On August 20, 2008, notice was published in the Federal Register (73 FR 49174) that a request for a scientific research permit to take sperm (Physeter macrocephalus), blue (Balaenoptera musculus), Bryde's (B. edeni), dwarf sperm (Kogia sima), false killer (Pseudorca crassidens), fin (B. physalus), gray (Eschrichtius robustus), humpback (Megaptera novaeangliae), killer (Orcinus orca), minke (B. acutorostrata), pilot (Globicephala spp.), pygmy sperm (K. breviceps), sei (B. borealis), southern right (Eubalaena australis), northern right (E. glacialis), and unidentified beaked (Ziphius cavirostris and Mesoplodon spp.) whales, and common dolphins (Delphinus delphis), had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 13545 authorizes Ocean Alliance, Inc. to conduct research over a five-year period to determine contaminant levels; culture cells; and collect data on abundance, movement and distribution patterns, habitat use, energetics, behaviors, and stock and social structures of the above identified species. During vessel surveys researchers may harass live animals and collect tissues from dead, stranded cetaceans in U.S. waters and on the high seas. Researchers may conduct: biopsy sampling, collection of sloughed skin and feces, photo-identification, videography, passive acoustic recording, focal follows, and behavioral observation of up to 250 sperm whales annually and 20 animals annually for each of the above remaining species, except southern right whales. Researchers may import from foreign waters 150 sperm whale samples per year and 20 samples per year each for all other identified species. Research may occur in U.S. waters and the high seas of the Pacific and Atlantic Oceans, including the Gulf of Maine, Mexico and the Caribbean Sea, the territorial waters of Mexico, Indian Ocean, and Mediterranean Sea.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9328; fax (978)281-9394; and

Southeast Region, NMFS, 263 13th Avenue South, Saint Petersburg, Florida 33701; phone (727)824-5312; fax (727)824-5309.

Dated: February 16, 2010.
P. Michael Payne,
Chief, Permits, Conservation and Education Division, Office of Protected Resources, National Marine Fisheries Service.

[FR Doc. 2010-3364 Filed 2-19-10; 8:45 am]

BILLING CODE 3510-22-S